DEPARTMENT OF THE INTERIOR

Bureau of Land Management

[LL WO31000-L13100000.PP0000-24-1A; OMB Control Number 1004-0185]

Information Collection; Oil and Gas Exploration, Leasing, and Drainage Operations

AGENCY: Bureau of Land Management, Interior.

ACTION: 30-day Notice and Request for Comments.

SUMMARY: The Bureau of Land Management (BLM) has submitted an information collection request to the Office of Management and Budget (OMB) for a 3-year extension of OMB Control Number 1004-0185 under the Paperwork Reduction Act. The respondents are businesses which provide certification and various nonform data to the BLM in order to conduct oil and gas exploration and leasing activities.

DATES: The OMB is required to respond to this information collection request within 60 days but may respond after 30 days. Therefore, written comments should be received on or before August 26, 2009.

ADDRESSES: You may submit comments directly to the Desk Officer for the Department of the Interior (OMB #1004-0185), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240.

You may also send a copy of your comments by electronic mail to jean_sonneman@blm.gov.

FOR FURTHER INFORMATION CONTACT: Barbara Gamble, Division of Fluid Minerals at 202-452-0338 (Commercial or FTS).

SUPPLEMENTARY INFORMATION:

Title: Oil and Gas Exploration, Leasing, and Drainage Operations (43 CFR parts 3100, 3120, 3150, 3162).

OMB Number: 1004-0185.

Form Number: 3100-11 (certification).

Abstract: The Bureau of Land Management proposes to extend the currently approved collections of information, which enable it to determine whether applicants are qualified to conduct oil and gas exploration and leasing activities, and whether oil and gas leases are protected from drainage.

60-Day Notice: On November 20, 2008, the BLM published a 60-day notice (73 FR 70363) requesting comments on the proposed information collection. The comment period ended on January 20, 2009. No comments were received.

Current Action: This proposal is being submitted to extend the expiration date of July 31, 2009.

Type of Review: 3-year extension.

Affected Public: Businesses.

Obligation to Respond: Required to obtain or retain benefits.

Estimated Number of Annual Responses: 2,880

Estimated Number of Annual Burden Hours: 6,835.

There is no filing fees associated with these information collections. The BLM requests comments on the following subjects:

(1) Whether the collection of information is necessary for the proper functioning of the BLM, including whether the information will have practical utility;

(2) The accuracy of the BLM's estimate of the burden of collecting the information, including the validity of the methodology and assumptions used;

(3) The quality, utility and clarity of the information to be collected; and

(4) How to minimize the information collection burden on those who are to respond, including the use of appropriate automated, electronic, mechanical, or other forms of information technology.

Please send comments to the addresses listed under ADDRESSES. Please refer to OMB control number 1004-0185 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. E9-17875 Filed 7-24-09; 8:45 am]

BILLING CODE 4310-84-P